ENVIRONMENTAL PROTECTION AGENCY

[EPA-HQ-OPP-2018-0418; FRL-9989-70-OMS]

Agency Information Collection Activities; Submitted to OMB for Review and Approval; Comment Request; Reporting in the FIFRA Cooperative Agreement Work Plan and Report Template (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Reporting in the FIFRA Cooperative Agreement Work Plan and Report Template (EPA ICR Number 2511.02 and OMB Control No. 2070-0198). The ICR, which is available in the docket along with other related materials, provides a detailed explanation of the collection activities and the burden estimate that is only briefly summarized in this document. This is a request to renew the approval of an existing ICR, which is currently approved through April 30, 2019. EPA previously provided a 60-day public review opportunity via the Federal Register on September 28, 2018. With this submission, EPA is providing an additional 30 days for public review.

DATES: Comments must be received on or before May 29, 2019.

ADDRESSES: Submit your comments, identified by docket identification (ID) number EPA-HQ-OPP-2018-0418, to (1) EPA online using http://www.regulations.gov (our preferred method) or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Carolyn Siu, Field and External Affairs Division (7506P), Office of Pesticide Programs, Environmental Protection Agency, 1200 Pennsylvania Ave. NW, Washington, DC 20460-0001; telephone number: (703) 347-0159; email address: siu.carolyn@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This is a request to renew the approval of an existing ICR, which is currently approved through April 30, 2019. Under OMB regulations, the Agency may continue to conduct or sponsor the collection of information while this submission is pending at OMB. With this submission, EPA is providing an additional 30 days for public review.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the activities and estimated burden and costs associated with the electronic collection of information for the pre-award burden activity for creating a work plan and the post-award and after-the-grant award activities related to reporting accomplishments to implement EPA's Federal Insecticide, Fungicide, and Rodenticide Act (FIFRA) State and Tribal Assistance Grant (STAG) program (7 U.S.C 136u). This ICR augments the ICR entitled “EPA's General Regulation for Assistance Programs ICR” (EPA Number 0938.18; OMB Number 2030-0020) which accounts for the current PRA burden for the minimum management requirements for all recipients of EPA grants or cooperative agreements (assistance agreements). This ICR covers the FIFRA program specific activities associated with using a standardized electronic format for only the STAG program reporting and recordkeeping.

Respondents/Affected Entities: Entities potentially affected by this ICR are state, local governments, Indian tribes, and U.S. territories that are grantees of Federal funds participating in the FIFRA STAG program. The corresponding North American Industry Classification System (NAICS) codes for respondents include: 9241 (Administration of Environmental Quality programs); and 92115 (American Indians and Alaska Native Tribal Governments).

Respondent's obligation to respond: Mandatory.

Estimated total number of potential respondents: 81.

Frequency of response: Biannually.

Estimated total burden: 26,195 hours (per year). Burden is defined at 5 CFR 1320.3(b).

Estimated total costs: $2,102,179 (per year), includes no annualized capital investment or maintenance and operational costs.

Changes in the estimates: There is no increase over the currently approved ICR in terms of the per event annual paperwork burden hours for grantees to use the FIFRA grant template (i.e., 46.15 hours). However, the total burden has increased by 19,877 hours (from 6,318 hours currently approved, to 26,195 hours) because the Agency estimates now reflect the potential for all recipients to use the reporting tool and instructions. In addition, the burden cost in this ICR has increased relative to the previous ICR due to updating the wages (from 2012 to 2017) and using the fully loaded wage rate. In the previous ICR, the unloaded wage rate was used. These changes are discussed in more detail in the ICR and qualify as an adjustment.

Dated: April 19, 2019.
Courtney Kerwin,
Director, Regulatory Support Division.

[FR Doc. 2019-08514 Filed 4-26-19; 8:45 am]

BILLING CODE 6560-50-P